DEPARTMENT OF TRANSPORTATION

Federal Aviation Administration

14 CFR Part 71

[Docket No. FAA-2019-0761; Airspace Docket No. 19-ANM-18]

RIN 2120-AA66

Amendment of Class E Airspace; Missoula, MT

AGENCY: Federal Aviation Administration (FAA), DOT.

ACTION: Final rule.

SUMMARY: This action amends Class E airspace designated as an extension to a Class D or Class E surface area at the Missoula International Airport, Missoula, MT. This action also amends the Class E airspace extending upward from 700 above the surface at the airport. Additionally, the action amends the Class E airspace extending upward from 1,200 above the surface at the airport. Further, this action removes the Missoula VORTAC from the legal description. Lastly, the action makes administrative updates to the Class D and Class E2 legal descriptions.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and Class E airspace at Missoula International Airport, Missoula, MT, to ensure the safety and management of Instrument Flight Rules (IFR) operations at the airport.

History

The FAA published a notice of proposed rulemaking in the Federal Register (84 FR 54792; October 11, 2019) for Docket No. FAA-2019-0761 to amend Class E airspace at Missoula International Airport, Missoula, MT. Interested parties were invited to participate in this rulemaking effort by submitting written comments on the proposal to the FAA. The FAA received one non-substantive comment discussing the potential impact on property values in the area. Though the comment isn't substantive, this action reduces the lateral boundaries for most of the Class E airspace established for the Missoula International Airport. The radius of the Class E airspace designated as a surface area will not change. The lateral boundaries of one area to the southeast of the airport will increase slightly.

Subsequent to the publication of the NPRM, the FAA determined that a minor modification to one Class E airspace area, designated as an extension to a Class D or Class E surface area, would be beneficial. The NPRM defined this area as; within 0.7 miles each side of the 142° bearing extending from the 4.4-mile radius to 5.6 miles southeast of the airport. The NPRM definition created a small space or gap between this area and a nearby area of similar airspace. Additionally, the minimum distance authorized for the width of controlled airspace along a bearing is 1.0 mile. To remove this gap, enhance aeronautical charting and meet the minimum requirement for airspace widths, the area will be defined as; within 1.0 miles northeast and 1.2 miles southwest of the 142° bearing from the airport, extending from the 4.4-mile radius to 5.6 miles southeast of the airport.

Class D, Class E2, Class E4, and Class E5 airspace designations are published in paragraphs 5000, 6002, 6004 and 6005, respectively, of FAA Order 7400.11D, dated August 8, 2018, and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 modifies Class E airspace designated as an extension to Class D or Class E surface areas at Missoula International Airport as follows: That airspace extending upward from the surface within 1.2 miles each side of the 310° bearing from the airport, extending from the 4.4-mile radius to 10.8 miles northwest of the airport, and within 1.3 miles each side of the 295° bearing from the airport, extending from the 4.4-mile radius to 5.6 miles northwest of the airport, and within 1.0 mile northeast and 1.2 miles southwest of the 142° bearing from the airport, extending from the 4.4-mile radius to 5.6 miles southeast of the airport, and within 1.5 miles each side of the 171° bearing from the airport, extending from the 4.4-mile radius to 10.6 miles south of the Missoula International Airport.

This action also modifies Class E airspace extending upward from 700 feet above the surface as follows: That airspace extending upward from the surface within 3.5 miles each side of the 311° bearing from the airport, extending from the 4.4-mile radius to 22.3 miles northwest of the airport, and within 1.6 miles west and 4.3 miles east of the 179° bearing from the airport, extending from the 4.4-mile radius to 15.2 miles south of the Missoula International Airport.

Additionally, this action amends Class E airspace extending upward from 1,200 feet above the surface as follows: That airspace extending upward from 1,200 feet above the surface within a 35-mile radius of the Missoula International Airport.

Further, this action removes the Missoula VORTAC from the legal description.

Lastly, this action applies an administrative update to the Class D and Class E2 legal descriptions, replacing the term “Airport/Facility Directory” with “Chart Supplement.”

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ANM MT D Missoula, MT [Amended]

Missoula International Airport, MT

(Lat. 46°54′59″ N, long. 114°05′26″ W)

That airspace extending upward from the surface to and including 5,700 feet MSL within a 4.4-mile radius of the Missoula International Airport. This Class D airspace area is effective during the specific dates and times established in advance by a Notice to Airmen. The effective date and time will thereafter be continuously published in the Chart Supplement.

Paragraph 6002 Class E Airspace Areas Designated as Surface Areas.

* * * * *

ANM MT E2 Missoula, MT [Amended]

Missoula International Airport, MT

(Lat. 46°54′59″ N, long. 114°05′26″ W)

That airspace extending upward from the surface within a 4.4-mile radius of the Missoula International Airport. This Class E airspace area is effective during the specific dates and times established in advance by a Notice to Airmen. The effective date and time will thereafter be continuously published in the Chart Supplement.

Paragraph 6004 Class E Airspace Areas Designated as an Extension to a Class D or Class E Surface Area.

* * * * *

ANM MT E4 Missoula, MT [Amended]

Missoula International Airport, MT

(Lat. 46°54′59″ N, long. 114°05′26″ W)

That airspace extending upward from the surface within 1.2 miles each side of the 310° bearing from the airport, extending from the 4.4-mile radius to 10.8 miles northwest of the airport, and within 1.3 miles each side of the 295° bearing from the airport, extending from the 4.4-mile radius to 5.6 miles northwest of the airport, and within 1.0 mile northeast and 1.2 miles southwest of the 142° bearing from the airport, extending from the 4.4-mile radius to 5.6 miles southeast of the airport, and within 1.5 miles each side of the Missoula 171° bearing from the airport, extending from the 4.4-mile radius of the airport to 10.6 miles south of the Missoula International Airport.

Paragraph 6005 Class E Airspace Areas Extending Upward From 700 Feet or More Above the Surface of the Earth.

* * * * *

ANM MT E5 Missoula, MT [Amended]

Missoula International Airport, MT

(Lat. 46°54′59″ N, long. 114°05′26″ W)

That airspace extending upward from 700 feet above the surface within 3.5 miles each side of the 311° bearing from the airport, extending from the 4.4-mile radius to 22.3 miles northwest of the airport, and within 1.6 miles west and 4.3 miles east of the 179° bearing from the airport, extending from the 4.4-mile radius to 15.2 miles south of the airport, and that airspace extending upward from 1,200 feet above the surface within a 35-mile radius of the Missoula International Airport.

Issued in Seattle, Washington, on February 26, 2020.
Shawn M. Kozica,
Group Manager, Western Service Center, Operations Support Group.

[FR Doc. 2020-04260 Filed 3-2-20; 8:45 am]

BILLING CODE 4910-13-P